DEPARTMENT OF LABOR

Employment and Training Administration

Investigations Regarding Certifications of Eligibility To Apply For Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 1, 2004.

Interested persons are invited to submit written comments regarding the subject matter of the investigations to the Director, Division of Trade Adjustment Assistance, at the address shown below, not later than November 1, 2004.

The petitions filed in this case are available for inspection at the Office of the Director, Division of Trade Adjustment Assistance, Employment and Training Administration, U.S. Department of Labor, Room C-5311, 200 Constitution Avenue, NW., Washington, DC 20210.

Signed at Washington, DC this 15th day of October 2004.
Timothy Sullivan,
Director, Division of Trade Adjustment Assistance.

Appendix
[Petitions Instituted between 09/27/2004 and 10/08/2004]
TA-W | Subject firm (petitioners) | Location | Date of institution | Date of petition
55,686 | Electronic Data Systems (EDS) (NPW) | Coraopolis, PA | 09/27/2004 | 09/27/2004
55,687 | Lace Lastics Co., Inc. (Wkrs) | Oxford, NC | 09/27/2004 | 09/24/2004
55,688 | California Manufacturing Co. (Comp) | California, MO | 09/27/2004 | 09/22/2004
55,689 | Alpha Circuit Technology (State) | Rogers, MN | 09/27/2004 | 09/27/2004
55,690 | Tower Automotive (IUE) | Greenville, MI | 09/27/2004 | 09/24/2004
55,691 | Royal Home Fashions (Wkrs) | Henderson, NC | 09/27/2004 | 09/24/2004
55,692 | Falcon Garments (State) | Dallas, TX | 09/27/2004 | 09/21/2004
55,693 | Acuity Brands Lighting (Comp) | Cochran, GA | 09/27/2004 | 09/20/2004
55,694 | DonI, Inc. (Cmp) | Clayton, GA | 09/27/2004 | 09/22/2004
55,695 | Ridgefield Forest Products (Wkrs) | Ridgefield, WA | 09/27/2004 | 09/22/2004
55,696 | Ametek Aerospace and Power Ind. (IUE) | Wilmington, MA | 09/27/2004 | 09/24/2004
55,697 | MacDonald Tube Products (UAW) | Madison Hgts., MI | 09/27/2004 | 09/14/2004
55,698 | Ultra Wheel (State) | Bueno Park, CA | 09/27/2004 | 09/23/2004
55,699 | Gear Research (Comp) | Grand Rapids, MI | 09/28/2004 | 09/27/2004
55,700 | Emerson Tool Co. (IBB) | Menomiee, MI | 09/28/2004 | 09/22/2004
55,701 | Strattec Security Corp. (Comp) | Milwaukee, WI | 09/28/2004 | 09/23/2004
55,702 | Onsite International (Comp) | El Paso, TX | 09/28/2004 | 09/16/2004
55,703 | Otsego Tool and Engineering (Wkrs) | Albertville, MN | 09/28/2004 | 09/23/2004
55,704 | Quantegy, Inc. (Comp) | Opelika, AL | 09/28/2004 | 09/22/2004
55,705 | Mid-South Waste (Wkrs) | New Albany, MS | 09/29/2004 | 09/14/2004
55,706 | Seco Warwick (IBEW) | Meadville, PA | 09/29/2004 | 09/13/2004
55,707 | Iris Apparel, Inc. (Comp) | Clarkrange, TN | 09/29/2004 | 09/20/2004
55,708 | Alcatel (State) | Plano, TX | 09/29/2004 | 09/28/2004
55,709 | Facilities Mgt & Maint. Services of Conway (A) | Conway, AR | 09/30/2004 | 09/29/2004
55,710 | Distinct Marketing Designs (Wkrs) | High Point, NC | 09/30/2004 | 09/27/2004
55,711 | San Francisco Sewing Association (Wkrs) | Daly City, CA | 09/30/2004 | 09/29/2004
55,712 | Universal Record Distributing Corp (NPW) | Philadelphia, PA | 09/30/2004 | 09/22/2004
55,713 | Techform (OR) | Milwaukie, OR | 09/30/2004 | 09/27/2004
55,714 | Interface Fabrics (Wkrs) | Elkin, NC | 10/01/2004 | 10/01/2004
55,715 | Merix Corp. (Comp) | Forest Grove, OR | 10/01/2004 | 09/30/2004
55,716 | Devivo Industries (CT) | Waterbury, CT | 10/01/2004 | 09/30/2004
55,717 | General Chemical (USWA) | Claymont, DE | 10/01/2004 | 09/14/2004
55,718 | Halstab (PACE) | Hammond, IN | 10/01/2004 | 09/09/2004
55,719 | Lanier Clothes, Div. of Oxford Ind. (Comp) | Greenville, GA | 10/04/2004 | 10/01/2004
55,720 | Boeing Aircraft Co. (The) (IAM) | Wichita, KS | 10/04/2004 | 08/30/2004
55,721 | NCH Sewing, Inc. (Wkrs) | San Francisco, CA | 10/04/2004 | 09/20/2004
55,722 | Andrew Corporation (Comp) | Orland Park, IL | 10/04/2004 | 09/17/2004
55,723 | Rising Tides (State) | Florence, MA | 10/04/2004 | 09/15/2004
55,724 | Ranbar Electrical Materials, Inc. (Wkrs) | Manor, PA | 10/04/2004 | 09/22/2004
55,725 | Tupperware U.S., Inc. (Wkrs) | Hemingway, SC | 10/04/2004 | 09/28/2004
55,726 | United States Can Co. (Wkrs) | Elgin, IL | 10/04/2004 | 09/20/2004
55,727 | Quality Printing Co., Inc. (Comp) | Neenah, WI | 10/04/2004 | 09/28/2004
55,728 | Medex, Inc. (Comp) | Dublin, OH | 10/04/2004 | 09/28/2004
55,729 | Jervis B. Webb Co. (Wkrs) | Mt. Vernon, OH | 10/04/2004 | 09/22/2004
55,730 | B and J Knits, Inc. (Comp) | Statesville, NC | 10/04/2004 | 09/20/2004
55,731 | General Chemical—DVW-N (USWA) | Claymont, DE | 10/04/2004 | 09/14/2004
55,732 | John Crane, Inc. (Comp) | McAllen, TX | 10/04/2004 | 09/08/2004
55,733 | Maidenform, Inc. (State) | Jacksonville, FL | 10/04/2004 | 09/28/2004
55,734 | OWT Industries, Inc. (Comp) | Pickens, SC | 10/05/2004 | 10/04/2004
55,735 | Invista S.A.R.L. (Comp) | Kinston, NC | 10/05/2004 | 10/05/2004
55,736 | Helmuth Industries (State) | Linden, NJ | 10/05/2004 | 10/05/2004
55,737 | F.S. Childers and Sons Lumber Co., Inc. (Comp) | Taylorsville, NC | 10/05/2004 | 10/04/2004
55,738 | Eiser, Inc. (Comp) | Portland, OR | 10/05/2004 | 09/13/2004
55,739 | Zenith/LG Electronics (Wkrs) | Lincolnshire, IL | 10/05/2004 | 09/13/2004
55,740 | American Slate and Marble (Comp) | Hickory, NC | 10/05/2004 | 09/28/2004
55,741 | Smurfit-Stone Container Corp. (ULA) | Milford, CT | 10/05/2004 | 10/05/2004
55,742 | Rock-Tenn Co. (Wkrs) | Otsego, MI | 10/06/2004 | 09/29/2004
55,743 | Dawson Furniture Co. (Comp) | Webb City, MO | 10/06/2004 | 10/04/2004
55,744 | Hendry Telephone Products (Comp) | Goleta, CA | 10/06/2004 | 10/05/2004
55,745 | Interstate Brand (RWDSU) | Grand Rapids, MI | 10/06/2004 | 09/23/2004
55,746 | West Point Stevens (Comp) | Clemson, SC | 10/07/2004 | 10/04/2004
55,747 | Child Craft, Inc. (IBB) | Salem, IN | 10/07/2004 | 09/19/2004
55,748 | Liz Claiborne (UNITE) | N. Bergen, NJ | 10/07/2004 | 10/05/2004
55,749 | Troy, LLC (USWA) | Harrisville, WV | 10/07/2004 | 10/01/2004
55,750 | Pressman Toy (State) | New Brunswick, NJ | 10/07/2004 | 10/06/2004
55,751 | Seams, Inc. (Comp) | White Mills, PA | 10/07/2004 | 10/06/2004
55,752 | Grand Traverse Engineering, Inc. (State) | Williamsburg, MI | 10/08/2004 | 09/29/2004
55,753 | VF Imagewear (Comp) | Sparta, TN | 10/08/2004 | 09/28/2004
55,754 | Dan River, Inc. (Wkrs) | New York, NY | 10/08/2004 | 09/29/2004
55,755 | GE Capital IT Solutions (Wkrs) | Erlanger, KY | 10/08/2004 | 09/18/2004
55,756 | Inmed Corp dba Trusch, Inc. (Comp) | Duluth, GA | 10/08/2004 | 10/07/2004
55,757 | Bernhardt Furniture Co. (Comp) | Lenoir, NC | 10/08/2004 | 09/27/2004
55,758 | Hooker Furniture Corp. (Comp) | Martinsville, VA | 10/08/2004 | 10/01/2004
55,759 | Monterey Carpets (State) | Santa Ana, CA | 10/08/2004 | 09/13/2004
55,760 | C and D Lumber (State) | Riddle, OR | 10/08/2004 | 10/04/2004
55,761 | Technicon Engineering, Inc. (Comp) | Macon, GA | 10/08/2004 | 09/24/2004
55,762 | Seton Company (State) | Newark, NJ | 10/08/2004 | 10/07/2004
55,763 | Contractor's Engineer, LLC (Comp) | Neodesha, KS | 10/08/2004 | 09/10/2004
55,764 | DeVlieg Bullard, II (Wkrs) | Rockford, IL | 10/08/2004 | 09/18/2004
55,765 | Ferrania USA, Inc. (Comp) | Weatherford, OK | 10/08/2004 | 10/07/2004
55,766 | Aerotek/Solectron Tech. (State) | Charlotte, NC | 10/08/2004 | 10/05/2004

[FR Doc. 04-23684 Filed 10-21-04; 8:45 am]

BILLING CODE 4510-30-M